DEPARTMENT OF COMMERCE

National Oceanic and Atmospheric Administration

[I.D. 042605E]

Western Pacific Fishery Management Council; Public Meeting

AGENCY: National Marine Fisheries Service (NMFS), National Oceanic and Atmospheric Administration (NOAA), Commerce.

ACTION: Notice of a public meeting.

SUMMARY: The Western Pacific Fishery Management Council (Council) will hold a meeting of its Marine Mammal Advisory Committee (MMAC) to discuss issues relating to the interactions of marine mammals with pelagic fisheries in the Hawaiian Islands.

DATES: The meeting of the MMAC will be held on May 11-12, 2005, from 8:30 a.m. to 5 p.m.

ADDRESSES: The meeting will be held at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION: The MMAC will meet on May 11-12, 2005, at the Council Conference Room to discuss the following agenda items:

1. Introductions

2. Hawaii longline fishery, current status

3. Spending plan to address category 1 classification of the Hawaii longline fishery

4. Update on observer data records of marine mammal interactions with Hawaii-based longliners

5. Statistical aspects of estimating fleet wide interactions between marine mammals and Hawaii-based longline vessels

6. Studies of odontocete population size and structure in the main Hawaiian Islands

7. Stock assessment reports for marine mammals in the Western Pacific Region

8. Opportunistic information on False Killer Whales from the SPLASH program

9. Recreational fisheries and interactions with marine mammals

10. Longline—depredation research on toothed whales

11. Behavioral aspects of toothed whale depredation on longlines

12. Fleet communication strategies to avoid protected species interactions with longlines

13. Other business

14. Recommendations

The order in which the agenda items are addressed may change. The MMAC will meet as late as necessary to complete scheduled business. Although non-emergency issues not contained in this agenda may come before the MMAC for discussion, those issues may not be the subject of formal action during these meetings. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Dated: April 27, 2005.
Tracey Thompson,
Acting Director, Office of Sustainable Fisheries, National Marine Fisheries Service.

[FR Doc. E5-2068 Filed 4-29-05; 8:45 am]

BILLING CODE 3510-22-S